FEDERAL RESERVE SYSTEM

Change in Bank Control Notices; Acquisitions of Shares of Banks or Bank Holding Companies

The notificants listed below have applied under the Change in Bank Control Act (12 U.S.C. 1817(j)) and § 225.41 of the Board's Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than August 30, 2000.

A. Federal Reserve Bank of Cleveland (Paul Kaboth, Banking Supervision) 1455 East Sixth Street, Cleveland, Ohio 44101-2566:

1. Aline Tyo Baker, Robert Quincy Baker, III, William Richard Baker, Pamela Kaye Baker, Harold Potter, Katheryn Juanita Potter, Robert Q. Baker Trust, all of Coshocton, Ohio; to acquire voting shares of Ohio Heritage Bancorp, Coshocton, Ohio, and thereby indirectly acquire voting shares of Ohio Heritage Bank, Coshocton, Ohio.

B. Federal Reserve Bank of Chicago (Phillip Jackson, Applications Officer) 230 South LaSalle Street, Chicago, Illinois 60690-1414:

1. Edwin L. Adler, Lake Angelus, Michigan; to retain voting shares of Clarkston Financial Corporation, Clarkston, Michigan, and thereby indirectly retain voting shares of Clarkston State Bank, Clarkston, Michigan.

C. Federal Reserve Bank of Minneapolis (JoAnne F. Lewellen, Assistant Vice President) 90 Hennepin Avenue, Minneapolis, Minnesota 55480-0291:

1. Gentwo, LLLP, Wayzata, Minnesota; to acquire voting shares of Anchor Bancorp, Inc., Wayzata, Minnesota, and thereby indirectly acquire voting shares of Anchor Bank, N.A., Wayzata, Minnesota; Anchor Bank, West St. Paul, N.A., West St. Paul, Minnesota; Anchor Bank St. Paul, St. Paul, Minnesota; Heritage National Bank, North St. Paul, Minnesota; and Anchor Bank Farmington, N.A., Farmington, Minnesota.

Board of Governors of the Federal Reserve System, August 10, 2000.
Robert deV. Frierson,
Associate Secretary of the Board.

[FR Doc. 00-20742 Filed 8-15-00; 8:45 am]

BILLING CODE 6210-01-P